DEPARTMENT OF LABOR

Employee Benefits Security Administration

Proposed Extension of Information Collection Request Submitted for Public Comment; Application for EFAST Electronic Signature and Codes for EFAST Transmitters and Software Developers

ACTION: Notice.

SUMMARY: The Department of Labor, as part of its continuing effort to reduce paperwork and respondent burden, conducts a preclearance consultation program to provide the general public and Federal agencies with an opportunity to comment on proposed and continuing collections of information in accordance with the Paperwork Reduction Act of 1995 (PRA 95). This program helps to ensure that requested data can be provided in the desired format, reporting burden (time and financial resources) is minimized, collection instruments are clearly understood, and the impact of collection requirements on respondents can be properly assessed. Currently, the Employee Benefits Security Administration (EBSA) is soliciting comments on the proposed extension of the Application for EFAST Electronic Signature and Codes for EFAST Transmitters and Software Developers (Form EFAST-1).

A copy of the proposed information collection request (ICR) can be obtained by contacting the office listed below in the addresses section of this notice. The Form EFAST-1 is also available for viewing and downloading through the Department of Labor's Internet site (http://www.efast.dol.gov).

DATES: Written comments must be submitted to the office listed in the ADDRESSES section below on or before May 2, 2005.

ADDRESSES: Interested parties are invited to submit written comments regarding the collection of information. Send comments to Mr. Gerald B. Lindrew, Office of Policy and Research, U.S. Department of Labor, Employee Benefits Security Administration, 200 Constitution Avenue, NW., Room N-5647, Washington, DC 20210. Telephone: (202) 693-8410 Fax: (202) 693-4745 (These are not toll-free numbers).

SUPPLEMENTARY INFORMATION:

I. Background

Under part 1 of Title I of the Employee Retirement Income Security Act of 1974 (ERISA), Title IV of ERISA, and the Internal Revenue Code of 1986, as amended, administrators of pension and welfare benefit plans (collectively, employee benefit plans) subject to those provisions and employers sponsoring certain fringe benefit plans and other plans of deferred compensation are required to file returns/reports annually concerning the financial condition and operations of the plans. These reporting requirements are satisfied generally by filing the Form 5500 Series in accordance with its instructions and the related regulations.

Beginning with the 1999 plan year, the Agency announced the availability of computer scannable forms and the development of electronic filing technologies. The computer scannable formats were developed to facilitate the implementation of a computerized system designed to process the Form 5500 and the IRS Form 5500-EZ—the ERISA Filing and Acceptance System, or EFAST. The Form 5500 and Form 5500-EZ may also be filed electronically via modem, magnetic tape, floppy diskette, or CD-ROM.

In order to participate in the electronic filing program, applicants are required to submit an Application for EFAST Electronic Signature and Codes for EFAST Transmitters and Software Developers (Form EFAST-1), the subject of this ICR. Applicants who may file the Form EFAST-1 include: (1) Individuals applying for an electronic signature to sign a Form 5500 or 5500-EZ as, or on behalf of, plan administrators, employers/plan sponsors, or Direct Filing Entities (DFEs) using modem, magnetic tape, floppy diskette, or CD-ROM to file electronically; (2) transmitters (a company, trade, business, or other person) applying for codes to transmit Forms 5500 and/or Forms 5500-EZ for electronic filing using modem, magnetic tape, floppy diskette, or CD-ROM; and, (3) software developers (a company, trade, business, or other person that creates, programs, or otherwise modifies computer software) applying for codes required to develop EFAST-compliant computer software for electronically preparing and filing the Form 5500 and/or Form 5500-EZ. Applicants provide some or all of the following information depending on applicant type: Name and title of applicant, mailing address, Employer Identification Number (EIN), telephone number, facsimile number and e-mail address (optional), contact person if different than applicant, and a signed agreement concerning the terms and conditions of the electronic filing program. Applicants receive, depending on applicant type, some or all of the following codes: electronic signature; filer identification number; personal identification number; encryption key; electronic filing identification number; password; and software developer ID. Applicants use these codes, as applicable, in connection with electronic filing, electronic transmission, or the development of EFAST software for the Form 5500 and 5500-EZ.

The information provided by the applicants on EFAST-1, combined with the codes supplied to the applicants by the program, allow EFAST to verify a filer, transmitter, or software developer's standing as a qualified participant in the EFAST electronic filing program for the Form 5500 and 5500-EZ. EFAST-1 information also establishes a means of contact between the EFAST program and filers, transmitters, and software developers for information exchange.

II. Review Focus

The Department of Labor (Department) is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The Department is requesting an extension of the currently approved ICR pertaining to the Application for EFAST Electronic Signature and Codes for EFAST Transmitters and Software Developers (Form EFAST-1). The Department is not proposing or implementing changes to the existing ICR at this time.

Title: Application for EFAST Electronic Signature and Codes for EFAST Transmitters and Software Developers.

Agency: Department of Labor, Employee Benefits Security Administration.

Type of Review: Extension of currently approved collections.

OMB Numbers: 1210-0117.

Affected Public: Individuals or households; Business or other for-profit; Not-for-profit institutions.

Form Number: EFAST-1.

Total Respondents: 5,200.

Total Responses: 5,200.

Frequency of Response: On occasion.

Estimated Burden Hours: 1,200.

Estimated Burden Cost (Operating and Maintenance): $1,976.

Comments submitted in response to this request will be summarized and/or included in the request for Office of Management and Budget approval of the information collection request; they will also become a matter of public record.

Dated: February 24, 2005.
Gerald B. Lindrew,
Deputy Director, Office of Policy and Research, Employee Benefits Security Administration.

[FR Doc. 05-4082 Filed 3-2-05; 8:45 am]

BILLING CODE 4510-29-P